DEPARTMENT OF HEALTH AND HUMAN SERVICES

National Institutes of Health

Center for Scientific Review; Amended Notice of Meeting

Notice is hereby given of a change in the meeting of the Center for Scientific Review Special Emphasis Panel, March 28, 2001, 11 a.m. to March 28, 2001, 1 p.m., NIH, Rockledge 2, Bethesda, MD 20892 which was published in the Federal Register on March 29, 2001, 66 FR 17189.

The meeting will be held April 4, 2001. The time and location remain the same. The meeting is closed to the public.

Dated: March 30, 2001.
LaVerne Y. Stringfield,
Director, Office of Federal Advisory Committee Policy.

[FR Doc. 01-8357 Filed 4-4-01; 8:45 am]

BILLING CODE 4140-01-M